CORPORATION FOR NATIONAL AND COMMUNITY SERVICE

Sunshine Act Meeting

The Board of Directors of the Corporation for National and Community Service gives notice of the following meeting:

DATE AND TIME: May 22, 2001, 9:30 a.m.-12:30 p.m.

PLACE: Hilton Jackson, 1001 East County Line Road, Jackson, Mississippi.

STATUS: Open.

MATTERS TO BE CONSIDERED: The Committees of the Board of Directors will report on their activities. In addition, the Board will engage in discussions with representatives of the following: Mississippi Commission for Volunteer Service; Association of Retired and Senior Volunteer Program Directors; National Association of Foster Grandparent Program Directors; National Association of Senior Companion Project Directors; Service-Learning Lighthouse Partnership; Teach for America; and the Mid-South Promise Partnership.

ACCOMMODATIONS: Anyone who needs an interpreter or other accommodation should notify the Corporation's contact person.

CONTACT PERSON FOR FURTHER INFORMATION: Rhonda Taylor, Deputy Director of Public Liaison, Corporation for National Service, 8th Floor, Room 8619, 1201 New York Avenue NW., Washington, DC 20525. Phone (202) 606-5000 ext. 282. Fax (202) 565-2794. TDD: (202) 565-2799.

Dated: May 10, 2001.
Frank R. Trinity,
Acting General Counsel, Corporation for National and Community Service.

[FR Doc. 01-12327 Filed 5-11-01; 12:51 pm]

BILLING CODE 6050-28-P